DEPARTMENT OF COMMERCE

International Trade Administration

[A-201-809]

Notice of Amended Final Results of Antidumping Duty Administrative Review: Certain Cut-to-Length Carbon Steel Plate From Mexico

AGENCY: Import Administration, International Trade Administration, Department of Commerce.

ACTION: Notice of Amendment to Final Results of Antidumping Duty Administrative Review.

SUMMARY: The Department of Commerce (the Department) is amending the final results of the administrative review of the antidumping duty order on certain cut-to-length (CTL) carbon steel plate from Mexico to correct certain ministerial errors. See Certain Cut-to-Length Carbon Steel Plate From Mexico: Final Results of Antidumping Duty Administrative Review, 65 FR 8338 (February 18, 2000), as amended, 65 FR 65830 (November 2, 2000). These corrections are in accordance with section 751(h) of the Tariff Act of 1930, as amended (the Tariff Act) and 19 CFR 351.224 of the Department's regulations. The period covered by these amended final results of review is August 1, 1997 through July 31, 1998.

EFFECTIVE DATE: December 12, 2000.

FOR FURTHER INFORMATION CONTACT: Thomas Killiam or Robert James, Enforcement Group III, Office 8, Import Administration, International Trade Administration, U.S. Department of Commerce, 14th Street and Constitution Avenue, NW., Washington, DC 20230; telephone (202) 482-5222 or (202) 482-0649, respectively.

SUPPLEMENTARY INFORMATION: Applicable Statute: Unless otherwise indicated, all citations to the Tariff Act of 1930, as amended (the Tariff Act), are references to the provisions effective January 1, 1995, the effective date of the amendments made to the Tariff Act by the Uruguay Round Agreements Act (URAA). In addition, unless otherwise indicated, all citations to the Department's regulations are to the regulations, codified at 19 CFR part 351 (1998).

Amended Final Results

On February 18, 2000, the Department published in the Federal Register the final results of the 1997-1998 administrative review of the antidumping duty order on certain cut-to-length carbon steel plate from Mexico (65 FR 8338). This review covered one producer of the subject merchandise, Altos Hornos de Mexico S.A. de C.V. (AHMSA) and the period August 1, 1997 through July 31, 1998. Following timely allegations by both AHMSA and petitioners,¹ the Department subsequently amended the final results of this administrative review. See Notice of Amended Final Results of Antidumping Duty Administrative Review, 65 FR 65830 (November 2, 2000). The amended final results yielded a weighted average margin for AHMSA of 21.75 percent.

¹ Petitioners are Bethlehem Steel Corporation, Geneva Steel, Gulf States Steel, Inc. of Alabama, Inland Steel Industries, Inc., Lukens Steel Company, Sharon Steel Corporation, and U.S. Steel Group (a unit of USX Corporation).

On October 31, 2000, AHMSA submitted allegations of an additional ministerial error. AHMSA alleged that the Department incorrectly calculated the costs of certain raw materials supplied by affiliated parties by applying an incorrect adjustment factor to these material costs. This error had the effect of double counting the profit realized by the affiliates on these transactions. According to AHMSA, the correction of this error would cause certain home market sales to pass the cost test; therefore, AHMSA urged the Department to amend its model match computer programming language in order to permit these now above-cost home market sales to be matched to U.S. sales of identical merchandise.

We agree with AHMSA's allegation concerning our recalculation of AHMSA's direct material costs, and have made the suggested programming changes to permit matches of U.S. sales to above-cost sales of identical merchandise in the home market. Furthermore, in preparing these amended final results, we found and rectified an additional error in the treatment of indirect selling expenses in our cost-of-production test. See Memorandum to the File, “Analysis of Data Submitted by Altos Hornos de Mexico, S.A. (AHMSA) for the Second Amended Final Results of Review of Cut-to-Length Carbon Steel Plate from Mexico (A-201-809),” dated November 21, 2000. After the two mathematical corrections, however, all home market sales of model number “1,” the model identical to the U.S. model, continued to fail the cost test. As a result, for these amended final results, we continued to compare the U.S. model to the most similar home market model.

As a result of our analysis of AHMSA's allegations, we are again amending our final results of review to correct the error in calculating affiliated party profit identified by AHMSA, as well as to rectify the error involving indirect selling expenses we uncovered during our analysis, in accordance with 19 CFR 351.224(e). The amended weighted average dumping margin for AHMSA for the period August 1, 1997 through July 31, 1998 is 25.02 percent.

Accordingly, the Department shall determine, and the U.S. Customs Service shall assess, antidumping duties on all appropriate entries. The Department shall issue appraisement instructions directly to the Customs Service. Because there is only one importer of the subject merchandise, we have calculated an importer specific duty assessment rate for the merchandise based on the ratio of the total amount of antidumping duties calculated for the examined sales to the total entered value of sales. Furthermore, the following deposit requirements shall be effective upon publication of this notice of amended final results of review for all shipments of certain cut-to-length carbon steel plate from Mexico, entered, or withdrawn from warehouse, for consumption on or after the publication date, as provided for by section 751(a)(1) of the Tariff Act: (1) The cash deposit rate for the reviewed company will be the rate stated above; (2) for previously investigated companies not listed above, the cash deposit rate will continue to be the company-specific rate published for the most recent period; (3) if the exporter is not a firm covered in these reviews or the original LTFV investigation, but the manufacturer is, the cash deposit rate will be the rate established for the most recent period for the manufacturer of the merchandise; and (4) the cash deposit rate for all other manufacturers or exporters will continue to be 49.25 percent, the “All Others” rate in the less-than-fair-value investigation. See Antidumping Duty Order: Certain Cut-to-Length Carbon Steel Plate From Mexico, 58 FR 44165 (August 19, 1993). These deposit requirements shall remain in effect until publication of the final results of the next administrative review.

This notice serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective orders (APO) of their responsibility concerning the disposition of proprietary information disclosed under APO in accordance with 19 CFR 351.305(a)(3). Timely written notification of the return or destruction of APO materials, or conversion to judicial protective order, is hereby requested. Failure to comply with the regulations and terms of an APO is a sanctionable violation.

This administrative review and notice are in accordance with sections 751(a)(1) and 777(i)(1) of the Tariff Act and 19 CFR 351.224.

Dated: December 1, 2000.
Troy H. Cribb,
Assistant Secretary for Import Administration.

[FR Doc. 00-31496 Filed 12-11-00; 8:45 am]

BILLING CODE 3510-DS-P